DEPARTMENT OF COMMERCE

Office of the Secretary

Estimates of the Voting Age Population for 2007

AGENCY: Office of the Secretary, Commerce.

ACTION: General Notice announcing population estimates.

SUMMARY: This Notice announces the voting age population estimates, as of July 1, 2007, for each state and the District of Columbia. We are giving this notice in accordance with the 1976 amendment to the Federal Election Campaign Act, Title 2, United States Code, Section 441a(e).

FOR FURTHER INFORMATION CONTACT: Enrique Lamas, Chief, Population Division, Bureau of the Census, Department of Commerce, Room HQ-5H174, Washington, DC 20233, telephone 301-763-2071.

SUPPLEMENTARY INFORMATION: Under the requirements of the 1976 amendment to the Federal Election Campaign Act, Title 2, United States Code, Section 441a(e), I hereby give notice that the estimates of the voting age population for July 1, 2007, for each state and the District of Columbia are as shown in the following table.

Estimates of the Population of Voting Age for Each State and the District of Columbia: July 1, 2007
Area | Population 18 and over
United States | 227,719,424
Alabama | 3,504,314
Alaska | 501,260
Arizona | 4,668,889
Arkansas | 2,134,260
California | 27,169,291
Colorado | 3,668,836
Connecticut | 2,682,093
Delaware | 659,118
District of Columbia | 474,572
Florida | 14,207,683
Georgia | 7,013,141
Hawaii | 997,694
Idaho | 1,091,690
Illinois | 9,653,389
Indiana | 4,758,771
Iowa | 2,276,643
Kansas | 2,079,915
Kentucky | 3,237,501
Louisiana | 3,213,644
Maine | 1,037,740
Maryland | 4,259,547
Massachusetts | 5,016,899
Michigan | 7,624,966
Minnesota | 3,937,339
Mississippi | 2,150,081
Missouri | 4,453,585
Montana | 738,363
Nebraska | 1,328,426
Nevada | 1,905,380
New Hampshire | 1,017,642
New Jersey | 6,622,131
New Mexico | 1,469,639
New York | 14,884,315
North Carolina | 6,843,352
North Dakota | 496,906
Ohio | 8,715,043
Oklahoma | 2,717,809
Oregon | 2,884,547
Pennsylvania | 9,646,073
Rhode Island | 824,717
South Carolina | 3,347,792
South Dakota | 599,324
Tennessee | 4,685,233
Texas | 17,281,014
Utah | 1,828,508
Vermont | 489,901
Virginia | 5,885,912
Washington | 4,932,056
West Virginia | 1,424,654
Wisconsin | 4,280,361
Wyoming | 397,465

I have certified these counts to the Federal Election Commission.

Dated: January 16, 2008.
Carlos M. Gutierrez,
Secretary, Department of Commerce.

[FR Doc. E8-1098 Filed 1-22-08; 8:45 am]

BILLING CODE 3510-07-P